DEPARTMENT OF ENERGY

Federal Energy Regulatory Commission

[Docket No. MT00-11-001]

Midcoast Gas Transmission, Inc.; Notice of Proposed Changes in FERC Gas Tariff

August 24, 2000.

Take notice that on August 17, 2000, Midcoast Gas Transmission, Inc. (MIT), filed the following tariff sheet to be included in its FERC Gas Tariff, Second Revised Volume No. 1:

Sub Fourth Revised Sheet No. 150

MIT states that the primary purpose of filing the Revised Tariff Sheet is to correct certain language in the indicated tariff sheet, which was filed on July 20, 2000 in FERC Docket No. MT00-11-000, updating MIT's tariff to reflect recent changes in shared personnel and facilities, and to reflect minor housekeeping changes for clarification of MIT's FERC Gas Tariff.

Pursuant to section 154.7(a)(7) of the Commission's Regulations, MIT respectfully requests waiver of any additional requirement of the Regulations in order to permit the tendered tariff sheet to become effective September 18, 2000, as submitted.

Any person desiring to protest this filing should file a protest with the Federal Energy Regulatory Commission, 888 First Street, NE., Washington, DC 20426, in accordance with Section 385.211 of the Commission's Rules and Regulations. All such protests must be filed as provided in section 154.210 of the Commission's Regulations. Protests will be considered by the Commission in determining the appropriate action to be taken, but will not serve to make protestants parties to the proceedings. Copies of this filing are on file with the Commission and are available for public inspection in the Public Reference R oom. This filing may be viewed on the web at http://www.ferc.fed.us/online/rims.htm (call 202-208-2222 for assistance).

Linwood A. Watson, Jr.,
Acting Secretary.

[FR Doc. 00-22104 Filed 8-29-00; 8:45 am]

BILLING CODE 6717-01-M